DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: September 19, 2019, 10:00 a.m.

PLACE: Room 2C, 888 First Street NE, Washington, DC 20426.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1059th—Meeting
[Open Meeting; September 19, 2019; 10:00 a.m.]
Item No. | Docket No. | Company
ADMINISTRATIVE
A-1 | AD19-1-000 | Agency Administrative Matters.
A-2 | AD19-2-000 | Customer Matters, Reliability, Security and Market Operations.
ELECTRIC
E-1 | RM19-15-000 | Qualifying Facility Rates and Requirements.
| AD16-16-000 | Implementation Issues Under the Public Utility Regulatory Policies Act of 1978.
E-2 | EL18-26-000 | EDF Renewable Energy, Inc. v. Midcontinent Independent System Operator, Inc., Southwest Power Pool, Inc., and PJM Interconnection, L.L.C.
| AD18-8-000 | Reform of Affected System Coordination in the Generator Interconnection Process.
E-3 | EL17-89-000 | American Electric Power Service Corporation v. Midcontinent Independent System Operator, Inc. Southwest Power Pool, Inc.
E-4 | EL19-60-000 | City of Prescott, Arkansas v. Southwestern Electric Power Company. Midcontinent Independent System Operator, Inc.
E-5 | EL17-89-000 | American Electric Power Service Corporation v. Midcontinent Independent System Operator, Inc. Southwest Power Pool, Inc.
| EL19-60-000 | City of Prescott, Arkansas v. Southwestern Electric Power Company. Midcontinent Independent System Operator, Inc.
E-6 | ER19-2273-000 | Southwest Power Pool, Inc. Sunflower Electric Power Corporation.
E-7 | ER10-2126-005, EL19-87-000 | Idaho Power Company.
E-8 | ER18-1225-001 | Southwestern Electric Power Company.
| EL18-122-001 | Minden, Louisiana v. Southwestern Electric Power Company.
E-9 | ER14-874-003 | Calpine Bethlehem, LLC.
| ER14-875-003, ER17-2566-002 | Calpine Mid-Atlantic Generation, LLC.
| ER12-954-005 | Calpine Mid Merit, LLC.
| ER14-873-003, ER15-2495-003 | Calpine New Jersey Generation, LLC.
| ER15-2735-006 | Garrison Energy Center LLC.
| ER10-2214-005 | Zion Energy LLC.
E-10 | ER19-2422-000 | San Diego Gas & Electric Company. Sempra Gas & Power Marketing, LLC.
E-11 | ER18-855-000 | Panoche Valley Solar, LLC.
E-12 | Omitted
E-13 | ER14-225-005, ER14-225-006, EL19-68-000, EL19-68-001 | New Brunswick Energy Marketing Corporation.
E-14 | EC19-63-000 | NRG Wholesale Generation LP. Entergy Mississippi, LLC.
E-15 | EC18-63-001 | Bayou Cove Peaking Power, LLC, Big Cajun I Peaking Power LLC, Cottonwood Energy Company LP, Louisiana Generating LLC, Sterlington Power LLC, NRG Cottonwood Tenant LLC, NRG Power Marketing LLC, Cleco Cajun LLC, Cleco Corporate Holdings LLC, Cleco Group LLC, Cleco Partners L.P.
E-16 | ER18-370-002 | Southern California Edison Company.
E-17 | EL17-45-001 | California Public Utilities Commission, Northern California Power Agency, City and County of San Francisco, State Water Contractors, and Transmission Agency of Northern California v. Pacific Gas and Electric Company.
E-18 | EL18-194-001 | Nebraska Public Power District v. Tri-State Generation and Transmission Association, Inc., Southwest Power Pool, Inc.
| ER16-204-000 (not consolidated) | Southwest Power Pool, Inc.
E-19 | Omitted
E-20 | EL19-2-000 | Tipmont Rural Electric Member Cooperative v. Wabash Valley Power Association, Inc.
E-21 | EL19-72-000, QF90-73-010 | EF Kenilworth, LLC.
E-22 | EL19-10-000 | New England Ratepayers Association.
E-23 | ER19-2023-000 | Tucson Electric Power Company.
E-24 | Omitted
E-25 | EL18-143-001 | Public Service Electric and Gas Company v. Consolidated Edison Company of New York, Inc.
GAS
G-1 | RP19-1371-000 | West Texas Gas, Inc.
G-2 | Omitted
HYDRO
H-1 | P-14896-003, P-14897-003, P-14898-003, P-14899-003, P-14900-003, P-14901-003, P-14902-003, P-14903-003, P-14904-003, P-14905-003, P-14906-003, P-14907-003, P-14908-003, P-14909-003, P-14910-003, P-14911-003, P-14912-003, P-14913-003, P-14914-003, P-14915-003, P-14916-003, P-14917-003, P-14918-003, P-14919-003, P-14920-003, P-14921-003, P-14922-003, P-14923-003, P-14924-003, P-14925-003, P-14926-003, P-14927-003, P-14928-003, P-14929-003, P-14930-003, P-14931-003, P-14932-003, P-14933-003, P-14934-003, P-14935-003, P-14936-003, P-14937-003, P-14938-003, P-14939-003, P-14940-003, P-14941-003, P-14942-003, P-14943-003, P-14944-003, P-14945-003, P-14946-003, P-14947-003, P-14948-003, P-14949-003, P-14950-003, P-14951-003, P-14952-003, P-14953-003, P-14954-003, P-14955-003 | Algignis, Inc.
H-2 | P-14858-000 | McMahan Hydroelectric, LLC.
H-3 | P-13123-028 | Eagle Crest Energy Company.
H-4 | P-14805-001 | Island in the Sky, LLC.
H-5 | P-2833-110 | Public Utility District No. 1 of Lewis County, Washington.
CERTIFICATES
C-1 | CP18-102-000 | Cheyenne Connector, LLC.
| CP18-103-000 | Rockies Express Pipeline LLC.
C-2 | CP17-41-000 | Eagle LNG Partners Jacksonville LLC.

Issued: September 12, 2019.
Kimberly D. Bose,
Secretary.

A free webcast of this event is available through http://ferc.capitolconnection.org/. Anyone with internet access who desires to view this event can do so by navigating to www.ferc.gov's Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2019-20255 Filed 9-16-19; 4:15 pm]

BILLING CODE 6717-01-P